DEPARTMENT OF ENERGY

Federal Energy Regulatory Commission

[Docket Nos. ER04-699-000, ER03-1272-002, ER98-4410-000, ER98-4410-001, ER98-4410-002, EL02-101-000, EL02-101-001, and EL02-101-002]

Entergy Services, Inc., CLECO Power, LLC, Dalton Utilities, Entergy Services, Inc., Georgia Transmission Corporation, JEA, MEAG Power, Sam Rayburn G&T Electric Cooperative, Inc., Southern Company Services, Inc., City of Tallahassee, Florida; Supplemental Notice of Technical Conference

June 21, 2004.

As announced in the Notice of Technical Conference issued on May 12, 2004, a technical conference will be held on July 29-30, 2004, in New Orleans, Louisiana, to discuss with States and market participants issues related to Entergy Services, Inc.'s filing to establish independent oversight over certain transmission system activities. The conference will be held from 1 p.m. to 5 p.m. (central time) on July 29th and from 9 a.m. to approximately 3 p.m. (central time) on July 30th. The conference will be held at the City of New Orleans' City Council Chambers, located on the First Floor of 1300 Perdido Street, New Orleans, Louisiana 70112. Members of the Federal Energy Regulatory Commission are expected to participate, along with Entergy's State and local utility regulators.

The conference is open for the public to attend, and registration is not required; however, in-person attendees are asked to register for the conference on-line by close of business on Monday, July 26, 2004 at http://www.ferc.gov/whats-new/registration/entergy-0729-form.asp.

The Commission believes that there may be issues that overlap in these proceedings which may affect the overall provision of transmission service on the Entergy System. The Commission intends that the technical conference it ordered in these dockets will enable regulators and interested parties to discuss issues raised by Entergy's various proposals in the above dockets.

The Commission asks that the participants in the technical conference address the reasonableness of Entergy's proposal in Docket No. ER04-699-000 to establish an Independent Coordinator of Transmission (ICT) to provide oversight over Entergy's transmission system as opposed to the reasonableness and feasibility of alternative arrangements to provide oversight or control over Entergy's transmission system. The Commission would like Entergy and parties to the various referenced proceedings to address the issues raised in those proceedings as they relate to the broader issue of transmission service on the Entergy System. As such, the Commission expects to discuss how the following Entergy cases pending at the Commission in relation to Entergy's ICT proposal: The Available Flowgate Capability proceeding in Docket Nos. ER03-1272-000, et al.; the Capacity Benefit Margin proceeding in Docket Nos. ER01-4410-000, et al.; and the transmission expansion pricing and Weekly Procurement Process (WPP) contained in Docket No. ER04-699-000.

The Commission would also like to consider the issues raised by Indicated Stakeholders ¹ in Docket Nos. EL02-101-000, et al. in its filed response to the announcement of the SeTrans Sponsors that efforts to establish a Regional Transmission Organization in the Southeastern United States, including Entergy's transmission facilities, were suspended.

¹ The Indicated Stakeholders are: Alabama Municipal Electric Authority; Arkansas Electric Cooperative Corporation; ChevronTexaco; Electricities of North Carolina, Inc.; Lafayette Utilities System; Louisiana Energy and Power Authority; NRG Energy; Shell Trading Gas and Power Company; Tractebel Energy Marketing, Inc.; and Williams Power Company, Inc.

The Commission expects that other issues may be added after the Commission receives comments in Docket No. ER04-699-000 and will publish an additional supplemental notice with a detailed agenda. As a preliminary matter, the general issues to be addressed at each session of the conference are discussed below.

Day One of the conference will focus on issues regarding Entergy's oversight proposal, including whether the ICT's duties and responsibilities are adequate to ensure non-discriminatory access on the Entergy Transmission System; actual independence of the ICT; independent third party administration of Entergy's OASIS; and broad Entergy System Agreement issues. Additional issues may include feasibility of SPP serving as the ICT and the possibility of Entergy joining the SPP RTO.

Day Two of the conference will focus on transmission access issues arising from Entergy's proposed WPP, participation in the WPP, the roles of the EMO, Entergy Transmission Function—Weekly Operations, re-dispatch costs and impacts on AFC. Entergy's proposed transmission pricing and expansion pricing proposal will also be discussed.

Transcripts of the conference will be immediately available from Ace Reporting Company ((202) 347-3700 or 1-800-336-6646) for a fee. They will be available for the public on the Commission's eLibrary (FERRIS) seven calendar days after FERC receives the transcript. Additionally, Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection ((703) 993-3100).

For more information about the conference, please contact Anna Cochrane at (202) 502-6357 or at anna.cochrane@ferc.gov.

Linda Mitry,
Acting Secretary.

[FR Doc. E4-1441 Filed 6-28-04; 8:45 am]

BILLING CODE 6717-01-P